DEPARTMENT OF THE INTERIOR

Bureau of Land Management

[CA-370-1020-PG]

Notice of Resource Advisory Council Meeting

AGENCY: Bureau of Land Management, Northeast California Resource Advisory Council, Cedarville, California, Interior.

ACTION: Notice of meeting.

SUMMARY: Pursuant to the authorities in the Federal Advisory Committees Act (Pub. L. 92-463) and the Federal Land Policy and Management Act (Pub. L. 94-579), the U.S. Bureau of Land Management's Northeast California Resource Advisory Council will meet Thursday, May 31, and Friday, June 1, 2001, in Cedarville, CA

SUPPLEMENTARY INFORMATION: On Thursday, May 31, the RAC will convene at 7 p.m. at Jan's Country Hearth, 551 Main St., Cedarville, to hear public comments on issues affecting management of public lands administered by the BLM. On Friday, June 1, the council will convene at 8 a.m. at the BLM Surprise Field Office, 602 Cressler St., Cedarville, and depart for a field tour of public lands sites managed by the BLM. Discussion topics during the field tour will include BLM Native American consultation responsibilities, management considerations associated with threatened fish species, juniper management, and rangeland management after fires. Members of the public are welcome on the tour. They must provide their own transportation and lunch. The field tour will return to Cedarville by 4 p.m.

FOR FURTHER INFORMATION: Contact BLM Surprise Field Office Manager Susie Stokke at (530) 279-6101, or Public Affairs Officer Joseph J. Fontana, (530) 257-5381.

Joseph J. Fontana,
Public Affairs Officer.

[FR Doc. 01-12515 Filed 5-17-01; 8:45 am]

BILLING CODE 4310-40-P